DEPARTMENT OF THE INTERIOR

National Park Service

General Management Plan and Environmental Impact Statement, Gila Cliff Dwellings National Monument, NM

AGENCY: National Park Service, Department of the Interior.

ACTION: Notice of intent to prepare an environmental impact statement for the general management plan for Gila Cliff Dwellings National Monument.

SUMMARY: Pursuant to the National Environmental Policy Act of 1969, 42 U.S.C. 4332(C), the National Park Service is preparing an environmental impact statement for a general management plan for Gila Cliff Dwellings National Monument, New Mexico. The environmental impact statement will be approved by the Director, Intermountain Region.

The general management plan will prescribe the resource conditions and visitor experiences that are to be achieved and maintained in the monument over the next 15 to 20 years. The clarification of what must be achieved according to law and policy will be based on review of the monument's purpose, significance, special mandates, and the body of laws and policies directing park management. Based on determinations of desired conditions, the general management plan will outline the kinds of resource management activities, visitor activities, and development that would be appropriate in the future. A range of reasonable management alternatives will be developed through this planning process and will include, at a minimum, no-action and the preferred alternative.

The monument does not have a general management plan as required by the Redwood Amendment of 1978 and NPS management policies.

Issues to be addressed will include but are not limited to the following: The protection and interpretation options for the cliff dwellings and TJ Ruin and long-term direction for protection and management. The needs of all users (cultural heritage visitors, wilderness hikers, nature watchers, and Native Americans) and the appropriateness and adequacy of current facilities. Identifying and analyzing various options for long-term management of the monument, adjacent land, and facilities.

DATES: Any comments on the scope of issues to be addressed in the plan should be submitted no later than 30 days after publication of this notice. Public meetings regarding the general management plan will be held during the scoping period. Specific dates, times, and locations will be made available in the local media, on the National Park Service Planning, Environment and Public Comment (PEPC) Web site (http://parkplanning.nps.gov/gicl), or by contacting the Superintendent of Gila Cliff Dwellings National Monument.

ADDRESSES: Information on the planning process and copies of newsletters will be available from the office of the Superintendent, HC 68 Box 100, Silver City, NM 88061-0100.

FOR FURTHER INFORMATION CONTACT: Superintendent Steve Riley, Gila Cliff Dwellings National Monument, HC 68 Box 100, Silver City, NM 88061-0100; phone: (505) 536-9461.

SUPPLEMENTARY INFORMATION: Public and agency involvement will be solicited at several key steps in the planning process including initial scoping, alternatives development, and the draft plan.

If you wish to comment on any issues associated with the plan, you may submit your comments to the planning team by any one of several methods. You may mail comments to Gila Cliff Dwellings National Monument, HC 68 Box 100, Silver City, NM 88061-0100. You may also comment electronically at http://parkplanning.nps.gov/gicl. Finally, you may hand-deliver comments to the monument headquarters located forty-four miles north of Silver City, New Mexico, on NM Road 15. Before including your address, phone number, e-mail address, or other personal identifying information in your comment, be advised that your entire comment—including your personal identifying information—may be made publicly available at any time. While you can ask us in your comment to withhold from public review your personal identifying information, we cannot guarantee that we will be able to do so.

Dated: April 2, 2008.
Michael D. Snyder,
Regional Director, Intermountain Region, National Park Service.

[FR Doc. E8-8134 Filed 4-15-08; 8:45 am]

BILLING CODE 4312-FA-P